DEPARTMENT OF EDUCATION

Applications for New Awards; Expanding Opportunity Through Quality Charter Schools Program (CSP)—Grants to Charter Management Organizations for the Replication and Expansion of High-Quality Charter Schools

AGENCY: Office of Innovation and Improvement, Department of Education.

ACTION: Notice; correction.

SUMMARY: On November 30, 2018, we published in the Federal Register a notice inviting applications (NIA) for new awards for fiscal year (FY) 2019 for CSP—Grants to Charter Management Organizations for the Replication and Expansion of High-Quality Charter Schools (Grants to Charter Management Organizations), Catalog of Federal Domestic Assistance (CFDA) number 84.282M. This notice corrects the instructions for responding to the application requirements listed in the NIA to state that an applicant must respond to requirement (d) in a stand-alone section of the application or in an appendix.

DATES: December 20, 2018.

FOR FURTHER INFORMATION CONTACT: Eddie Moat, U.S. Department of Education, 400 Maryland Avenue SW, Room 4W259, Washington, DC 20202-5970. Telephone: (202) 401-2266. Email: eddie.moat@ed.gov.

If you use a telecommunications device for the deaf (TDD) or a text telephone (TTY), call the Federal Relay Service (FRS), toll free, at 1-800-877-8339.

SUPPLEMENTARY INFORMATION: On November 30, 2018, we published in the Federal Register (83 FR 61610) a notice inviting applications for new awards for FY 2019 for CSP Grants to Charter Management Organizations. This notice corrects the instructions for responding to the application requirements included in the NIA to state that an applicant must respond to requirement (d) in a stand-alone section of the application or in an appendix.

All other requirements and conditions stated in the NIA remain the same.

Correction

In FR Doc. 2018-26094, on page 61614, in the third column, at the bottom of the page, in the fourth sentence of the section entitled “Application Requirements”, we replace “requirement (a)” with “requirement (d)”.

Program Authority: Title IV, part C of the Elementary and Secondary Education Act of 1965, as amended by the Every Student Succeeds Act (20 U.S.C. 7221-7221j).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: November 17, 2018.
James C. Blew,
Acting Deputy Assistant Secretary for Innovation and Improvement.

[FR Doc. 2018-27554 Filed 12-19-18; 8:45 am]

BILLING CODE 4000-01-P